DEPARTMENT OF TRANSPORTATION

Surface Transportation Board

[Docket No. EP 519 (Sub-No. 4)]

Notice of National Grain Car Council Meeting

AGENCY: Surface Transportation Board, DOT.

ACTION: Notice of National Grain Car Council meeting.

SUMMARY: Notice is hereby given of a meeting of the National Grain Car Council (NGCC), pursuant to the Federal Advisory Committee Act, 5 U.S.C. app. 2 10(a)(2).

DATES: The meeting will be held on Thursday, September 12, 2013, beginning at 1:00 p.m. (CDT), and is expected to conclude at 5:00 p.m. (CDT).

ADDRESSES: The meeting will be held at the Westin Crown Center, 1 East Pershing Road, Kansas City, MO 64108. Phone (816) 474-4400 Fax (816) 391-4438.

FOR FURTHER INFORMATION CONTACT: Fred Forstall at (202) 245-0241. [Assistance for the hearing impaired is available through the Federal Information Relay Service (FIRS) at: (800) 877-8339].

SUPPLEMENTARY INFORMATION: The NGCC was established by the Interstate Commerce Commission (ICC), the Board's predecessor, as a working group to facilitate private-sector solutions and recommendations to the ICC (and now the Board) on matters affecting rail grain car availability and transportation. Nat'l Grain Car Supply—Conference of Interested Parties, EP 519 (ICC served Jan. 7, 1994).

The general purpose of this meeting is to discuss rail carrier preparedness to transport the 2013 fall grain harvest. Agenda items include the following: remarks by Board Chairman Daniel R. Elliott III, Vice Chairman Ann D. Begeman (who serves as Co-Chairman for the NGCC), and Commissioner Francis P. Mulvey; reports by rail carriers and shippers on grain-service related issues; reports by rail car manufacturers and lessors on current and future availability of various grain-car types of rail cars; a presentation and discussion regarding “Expanding Rail Infrastructure to Accommodate Growth in Agriculture and Other Sectors” by the Soy Transportation Coalition; a presentation and discussion of “Rail Time Indicators” by the Association of American Railroads; and an open forum for audience and members to discuss topics of interest regarding the coming new crop year. The full agenda along with other information regarding the National Grain Car Council is posted on the Board's Web site at http://www.stb.dot.gov/stb/rail/graincar_council.html.

The meeting, which is open to the public, will be conducted in accordance with the Federal Advisory Committee Act, 5 U.S.C. app. 2; Federal Advisory Committee Management, 41 CFR pt. 102-3; the NGCC Charter; and Board procedures. Any further communications about this meeting will be announced through the Board's Web site.

This action will not significantly affect either the quality of the human environment or the conservation of energy resources.

Decided: August 20, 2013.
By the Board, Richard Armstrong, Acting Director, Office of Proceedings.
Jeffrey Herzig,
Clearance Clerk.

[FR Doc. 2013-20623 Filed 8-22-13; 8:45 am]

BILLING CODE 4915-01-P